DEPARTMENT OF DEFENSE

Office of the Secretary

Notice of Funding Availability for Advance Planning Grants-Request for Grant Proposals

Correction

In notice document 04-13612 beginning on page 33887 in the issue of Thursday, June 17, 2004, make the following correction:

On page 33888, in the first column, under the heading “IV. Application and Submission Information,” in the first paragraph, in the fourth line, “June 27, 2004” should read “June 17, 2004.”

[FR Doc. C4-13612 Filed 6-22-04; 8:45 am]

BILLING CODE 1505-01-D